DEPARTMENT OF STATE

[Public Notice 3916]

Shipping Coordinating Committee; Notice of Meeting

The Shipping Coordinating Committee (SHC) will conduct an open meeting at 10:00 a.m. on Wednesday, April 24, 2002, in room 2415, U.S. Coast Guard Headquarters, 2100 Second Street, SW., Washington, DC. The purpose of this meeting will be to discuss the outcome of the forty-sixth session of the International Maritime Organization's Subcommittee on Fire Protection, held February 4-8, 2002. Preparations for the next session will also be discussed.

The meeting will focus on proposed amendments to the 1974 International Convention for the Safety of Life at Sea (SOLAS) concerning the fire safety of commercial vessels. Specific discussion areas include:

—Recommendation on evacuation analysis for new and existing passenger vessels;

—Smoke control and ventilation;

—Unified interpretations to SOLAS chapter II-2 and related fire test procedures;

—Analysis of fire casualty records;

—Large passenger ship safety; and

—Performance testing and approval standards for fire safety systems.

Members of the public may attend this meeting up to the seating capacity of the room. Interested persons may seek information by writing: Chief, Office of Design and Engineering Standards, Commandant (G-MSE-4), U.S. Coast Guard Headquarters, 2100 Second Street, SW, Washington, DC 20593-0001, by calling: LCDR Brian Gilda at (202) 267-1444, or by visiting the following World Wide Web site: http://www.uscg.mil/hq/g-m/mse4/stdimofp.htm.

Dated: March 14, 2002.
Stephen Miller,
Executive Secretary, Shipping Coordinating Committee, Department of State.

[FR Doc. 02-7472 Filed 3-27-02; 8:45 am]

BILLING CODE 4710-07-P